DEPARTMENT OF EDUCATION

Applications for New Awards; Educational Technology, Media, and Materials for Individuals With Disabilities Program—Educational Materials in Accessible Formats for Eligible Children and Students With Disabilities

AGENCY: Office of Special Education and Rehabilitative Services, Department of Education.

ACTION: Notice.

SUMMARY: The Department of Education (Department) is issuing a notice inviting applications for new awards for fiscal year (FY) 2022 for Educational Materials in Accessible Formats for Eligible Children and Students with Disabilities, Assistance Listing Number 84.327D. This notice relates to the approved information collection under OMB control number 1820-0028.

DATES:

Applications Available: February 9, 2022.

Deadline for Transmittal of Applications: April 11, 2022.

Deadline for Intergovernmental Review: June 9, 2022.

Pre-Application Webinar Information: No later than 5 DAYS AFTER DATE OF PUBLICATION IN THE Federal Register, the Office of Special Education and Rehabilitative Services (OSERS) will post details on pre-recorded informational webinars designed to provide technical assistance to interested applicants. Links to the webinars may be found at www2.ed.gov/fund/grant/apply/osep/new-osep-grants.html.

ADDRESSES: For the addresses for obtaining and submitting an application, please refer to our Common Instructions for Applicants to Department of Education Discretionary Grant Programs, published in the Federal Register on December 27, 2021 (86 FR 73264) and available at www.federalregister.gov/d/2021-27979. Please note that these Common Instructions supersede the version published on February 13, 2019, and, in part, describe the transition from the requirement to register in SAM.gov a Data Universal Numbering System (DUNS) number to the implementation of the Unique Entity Identifier (UEI). More information on the phase-out of DUNS numbers is available at https://www2.ed.gov/about/offices/list/ofo/docs/unique-entity-identifier-transition-fact-sheet.pdf.

FOR FURTHER INFORMATION CONTACT: Carlene Reid, U.S. Department of Education, 400 Maryland Avenue SW, Room 5083A, Potomac Center Plaza, Washington, DC 20202-5076. Telephone: (202) 245-6139. Email: carlene.reid@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purposes of the Educational Technology, Media, and Materials for Individuals with Disabilities (ETechM2) Program are to improve results for children with disabilities by (1) promoting the development, demonstration, and use of technology; (2) supporting educational activities designed to be of educational value in the classroom; (3) providing support for captioning and video description that is appropriate for use in the classroom; and (4) providing accessible educational materials (AEM) to children with disabilities in a timely manner.¹

¹ Applicants should note that other laws, including the Americans with Disabilities Act of 1990 (42 U.S.C. 12101, et seq.; 28 CFR part 35) and section 504 of the Rehabilitation Act of 1973, as amended (29 U.S.C. 794; 34 CFR part 104), may require that State educational agencies (SEAs) and local educational agencies (LEAs) provide captioning, video description, and other accessible educational materials to students with disabilities when these materials are necessary to provide equally integrated and equally effective access to the benefits of the educational program or activity, or as part of a “free appropriate public education” as defined in 34 CFR 104.33.

Priority: This competition includes one absolute priority. In accordance with 34 CFR 75.105(b)(2)(v), this priority is from allowable activities specified in the statute (see sections 674(c)(1)(D) and 681(d) of the Individuals with Disabilities Education Act (IDEA); 20 U.S.C. 1474(c)(1)(D) and 1481(d)).

Absolute Priority: For FY 2022 and any subsequent year in which we make awards from the list of unfunded applications from this competition, this priority is an absolute priority. Under 34 CFR 75.105(c)(3), we consider only applications that meet this priority.

This priority is:

Educational Technology, Media, and Materials for Individuals with Disabilities—Educational Materials in Accessible Formats for Eligible Children and Students with Disabilities.

Background:

IDEA requires State educational agencies (SEAs) and local educational agencies (LEAs) to provide free educational materials, including textbooks and instructional materials, in accessible formats ² to eligible early intervention, preschool, elementary, and secondary children and students in a timely manner (IDEA Part B, section 612(a)(23)(B) and section 613(a)(6)(B)).

² For the purposes of this priority, “accessible format(s)” has the meaning given in 17 U.S.C. 121(d)(1).

Further, under section 504 of the Rehabilitation Act of 1973, as amended, recipients of Federal financial assistance that are institutions of higher education (IHEs), SEAs, and LEAs must provide educational materials in accessible formats as a means to accommodate students with disabilities, including those who are blind, have a visual impairment or perceptual or reading disability, or have a physical disability. The accessible formats are needed to provide these students with an equal educational opportunity. 34 CFR 104.4.

Title II of the Americans with Disabilities Act (ADA) of 1990 is also applicable and requires, among other things, that public entities, including LEAs, SEAs, and public IHEs, ensure that students with disabilities have an equal opportunity to participate in a school's services, programs, or activities and ensure that communication with students with disabilities is as effective as communication with students without disabilities, through the provision, in a timely manner, of auxiliary aids and services. 28 CFR 35.130, 35.160.

To help ensure the free distribution of educational materials in accessible formats, Congress has granted exceptions to copyright holders' exclusive rights to replication and distribution through 17 U.S.C. 121 (the Chafee Amendment), which authorizes entities to reproduce or distribute copies of previously published works in accessible formats exclusively for use by eligible persons.³

³ For the purposes of this priority, “eligible person” means an individual who meets the eligible person definition in 17 U.S.C. 121(d)(3) regardless of any other disability—(A) is blind; (B) has a visual impairment or perceptual or reading disability that cannot be improved to give visual function substantially equivalent to that of a person who has no such impairment or disability and so is unable to read printed works to substantially the same degree as a person without an impairment or disability; or (C) is otherwise unable, through physical disability, to hold or manipulate a book or to focus or move the eyes to the extent that would be normally acceptable for reading. Eligibility must be certified in accordance with 36 CFR 701.6(b)(2).

In the 2019-2020 school year, States reported that there were 28,132 enrolled students, ages 3 through 21, receiving services through IDEA whose primary disability eligibility category was deaf-blindness or visual impairment including blindness and 2,381,411 students had a specific learning disability, many of whom would typically qualify as having a reading or perceptual disability that inhibits access to printed educational materials (U.S. Department of Education, 2020). For more than 15 years, previous projects supported by the Department have provided equitable access to materials that enable access to and progress in the general education curriculum for more than 800,000 individuals who have downloaded more than 10,045,000 files. These numbers continue to grow daily (www.bookshare.org). In order to provide access to educational content that is otherwise denied to individuals with disabilities when content is inaccessible, the provision of AEM is required. The provision of AEM enables those individuals to access content and experience equal opportunity and benefit from their education.

Priority:

The purpose of this priority is to fund a cooperative agreement to establish and operate a Center that will provide free educational materials,⁴ including textbooks, in fully accessible media for eligible children and students ⁵ enrolled in early intervention, preschool, elementary, and secondary schools, and eligible students enrolled in postsecondary schools. This Center will provide high-quality AEM to eligible children and students with disabilities, including individuals from racially and ethnically diverse backgrounds, at no cost, in a timely manner including dedicated outreach and collaboration with stakeholders (including those in high needs communities) to increase awareness and use of AEM. As a condition of this grant, the educational materials and textbooks distributed by the Center must be in accessible formats that are of high quality and meet or exceed industry standards for accessibility (e.g., Web Content Accessibility Guidelines (WCAG) 2.1 Level AA Standard; EPUB 3.2 Accessibility Standards) and digital rights management. Processes, strategies, and models used in the production, dissemination, and in digital rights management must be user-friendly, efficient, and cost effective. The AEM distributed by the Center must exemplify accessibility features required to receive third-party certification for accessibility. The Center will improve access to text, images, charts, graphics, equations, and other expressions, notations, or numerical content included in educational materials. To facilitate continuous improvement and promote equity in access to free, high-quality products and services, the Center will collect and analyze relevant data on the needs of its' users ⁶ and barriers encountered by children and students eligible to use, but not currently using AEM.

⁴ For the purposes of this priority, we are using the term “educational materials” as it is used in section 674(c)(1)(D) of IDEA.

⁵ For the purposes of this priority, “eligible children and students” are eligible persons as defined in 17 U.S.C. 121.

⁶ For the purposes of this priority, “users” includes eligible children and students, families, schools, SEAs, LEAs, postsecondary schools, and vocational rehabilitation agencies requesting AEM on behalf of eligible children or students.

The Center must achieve, at a minimum, the following expected outcomes:

(a) Improved access to text, images, charts, graphics, equations, and other expressions, notations, or numerical content disseminated in AEM;

(b) An increase in the number of children and students accessing high-quality AEM, including those in underserved communities (e.g., urban, rural, and high-poverty areas);

(c) An increase in the number of early intervention providers, LEAs, and postsecondary schools enrolling eligible children or students and accessing AEM on behalf of eligible children and students;

(d) An increase in the number of eligible children and students enrolling and accessing AEM directly from the Center;

(e) An increase in the number of publishers and producers who create and disseminate student-ready accessible files to the Center and provide eligible children and students direct access to student-ready accessible files;

(f) An increase in the number and quality of science, technology, engineering, and mathematics (STEM) textbooks and educational materials, including STEM images, graphics, descriptions, charts, equations, and other expressions, notations, or numerical content distributed to eligible children and students;

(g) Improved implementation of a model or models for producing and disseminating educational materials in accessible formats for children served under Part C of IDEA and section 619 of IDEA;

(h) Expanded or enhanced models for postsecondary schools to produce and disseminate accessible educational materials and textbooks that align with the key recommendations from the Advisory Commission on Accessible Instructional Materials in Postsecondary Education for Students with Disabilities (2011); ⁷ and

⁷ For the recommendations from this report, please see: https://aem.cast.org/get-started/resources/2011/postsecondary-advisory-commission-report

(i) Increased provision of educational materials in accessible formats, including any specialized software needed to use the materials, at no cost to SEAs, LEAs, families, schools for use by students who are eligible to receive accessible materials through the National Instructional Materials Access Center (NIMAC).⁸

⁸ For more information regarding the NIMAC, please see: www.nimac.us.

In addition to these programmatic requirements, to be considered for funding under this priority, applicants must meet the application and administrative requirements in this priority, which are:

(a) Demonstrate, in the narrative section of the application under “Quality of project services,” how the proposed project will—

(1) Acquire materials from publishers or authorized entities and make those materials accessible and available as high-quality, user-friendly AEM, including digital text, braille-ready files, and audio formats at no cost to eligible children and students;

(2) Ensure equal access and treatment for eligible children and students from groups that have traditionally been underrepresented based on race, color, national origin, gender, age, or disability. To meet this requirement, the applicant must describe how it will—

(i) Apply knowledge of diverse populations, inclusive with regard to race, ethnicity, culture, language, and disability status, to determine preferences and respond to unmet needs of eligible children and students in selecting the materials and services made available by the Center;

(ii) Use criteria to develop and implement processes for selecting, producing, and adding high-quality products and services to meet the needs of eligible children and students; and

(iii) Increase engagement in high-need communities to ensure educators in these communities are accessing professional development and learning to support the effective use of AEM in their instructional practice.

(3) Achieve its goals, objectives, and intended outcomes. To meet this requirement, the applicant must provide—

(i) Measurable intended project outcomes; and

(ii) A plan to implement the services and provide the products described in paragraph one of this section including the provision of no cost, compatible software for use with a variety of electronic devices and operating systems (e.g., e-readers, computers, smart phones, and tablets);

(iii) A plan that focuses on improving the quality, timeliness, ease of use, and access to AEM for eligible children and students, including anticipating and responding to future needs and technologies across the five years of the project;

(iv) A plan to ensure that eligible children and students will continue to be able to access at no cost the educational materials, including textbooks, in accessible formats, when the Center is no longer federally funded;

(v) A plan to ensure that resources developed by the Center are, to the maximum extent allowable under the law, openly licensed ⁹ through an open licensing authority;

⁹ Openly licensed educational resources are teaching, learning, and research resources that reside in the public domain or have been released under a license that permits their use, modification, and sharing with others.

(vi) A detailed digital rights management plan that will be implemented during the project and will protect the interests of rights holders while maintaining ease of access to AEM for eligible children and students;

(vii) A plan to consult with publishers, software developers, other manufacturers of AEM for eligible children and students, and the NIMAC, to ensure that the project uses the most efficient, cost-effective technology available to provide timely access to AEM. This plan should also address strategies to provide consistent features across all interfaces and media formats;

(viii) A plan to encourage and support the inclusion of accessibility features that are embedded during the development and production of the AEM by publishers and producers, where possible;

(ix) A plan for how the project will proactively coordinate across authorized entities to include IHEs, SEAs, and LEAs to reduce costs of production and duplication of materials, and to improve the timeliness of distribution;

(x) Information on how the project will collaborate with the National Library Service (NLS), Described and Captioned Media Program (DCMP), NIMAC, the National AEM Center, and other projects supporting accessibility to ensure awareness of work, share developed products to improve the quality of AEM, and minimize duplicative efforts;

(xi) Information on how the project will collaborate with the National AEM Center and other projects supporting accessibility to implement a plan for improving IHE, SEA, and LEA systems for providing educational material in accessible formats to eligible children and students; and

(xii) A description of how the project will ensure that project activities are conducted in compliance with 17 U.S.C. 121. (www.copyright.gov/title17/92chap1.html#121).

(4) Provide direct support to eligible children and students to address any technical assistance (TA) needs;

(5) Implement outreach activities to systematically distribute information, products, and services to varied audiences, including underserved individuals and their families (e.g., individuals from racially, ethnically, linguistically diverse backgrounds and individuals living in poverty or experiencing homelessness), using a variety of engagement strategies, to promote awareness and use of the Center's products and services; and

(6) Develop a professional learning plan to increase awareness of AEM, develop educator capacity, and create support systems for current and future educators. The plan must include strategies to engage faculty from teacher preparation programs responsible for preparing future educators as well as outreach to and engagement with current educators to support the effective use of AEM in their instructional practice.

(b) In the narrative section of the application under “Quality of the project evaluation,” include an evaluation plan for the project developed in consultation with and implemented by a third-party evaluator.¹⁰ The evaluation plan must—

¹⁰ A third-party evaluator is an independent and impartial program evaluator who is contracted by the grantee to conduct an objective evaluation of the project. This evaluator must not have participated in the development or implementation of any project activities, except for the evaluation activities, nor have any financial interest in the outcome of the evaluation.

(1) Include the logic model ¹¹ by which the proposed project will achieve its intended outcomes that depicts, at a minimum, the goals and how they will be measured, activities, outputs, and intended outcomes of the proposed project;

¹¹ Logic model (34 CFR 77.1) (also referred to as a theory of action) means a framework that identifies key project components of the proposed project (i.e., the active “ingredients” that are hypothesized to be critical to achieving the relevant outcomes) and describes the theoretical and operational relationships among the key project components and relevant outcomes.

(2) Describe a formative and summative evaluation plan, including important process and outcome evaluation questions. The plan must describe how the formative evaluation will use clear performance objectives to ensure continuous improvement in the operation of the proposed project, including objective measures of progress in implementing the project and ensuring quality of products and services. This plan should be related to the project's proposed logic model required in paragraph (b)(1) of the application and administrative requirements in this priority;

(3) Describe how progress in and fidelity of implementation, as well as project outcomes, will be measured to answer the evaluation questions. Specify the measures and associated instruments to be used so that the project can better meet the needs of current users and identify the needs of eligible, non-users. Identify and justify the sources for data appropriate to the evaluation questions. Include information regarding procedures for establishing reliability and validity of measures and data quality, where appropriate. Data sources must include, at a minimum—

(i) Information on the numbers of free educational materials requested by, produced for, available to, distributed to, and accessed by eligible children and students;

(ii) Information on the characteristics of the free educational materials (e.g., descriptive metadata, file types, types of literary work, source of materials), requested by, produced for, available to, distributed to, and accessed by eligible children and students;

(iii) Information on the characteristics of the current users (e.g., qualifying disability type (visual, learning, physical), individualized education program status, 504 plan status, age, grade level, member type, National Center for Education Statistics District ID or Institution) who request and access the free educational materials;

(4) Describe strategies for analyzing data and how data collected as part of this plan will be used to inform and improve product development and service delivery over the course of the project and to refine the proposed logic model and evaluation plan, including subsequent data collection;

(5) Include cost and efficiency measures, or a plan for cost and efficiency measures, for the production of AEM and using information from those measures to incorporate the most efficient, cost-effective technology available to provide timely access to AEM that can be used across alternative media formats;

(6) Provide a timeline for conducting the evaluation and include staff assignments for completing the plan. The timeline must indicate that the data will be available annually for the annual performance report (APR) and at the end of Year 2 for the review process described under the heading, Fourth and Fifth Years of the Project;

(7) Dedicate sufficient funds in each budget year to cover the costs of developing or refining the evaluation plan in consultation with a third-party evaluator, as well as the costs associated with the implementation of the evaluation plan by the third-party evaluator.

(c) Demonstrate, in the narrative section of the application under “Adequacy of resources and quality of project personnel,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes;

(3) The applicant and any key partners have adequate resources to carry out the proposed activities; and

(4) The proposed costs are reasonable in relation to the anticipated results and benefits.

(d) Demonstrate, in the narrative section of the application under “Quality of the management plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors will be allocated and how these allocations are appropriate and adequate to achieve the project's intended outcomes;

(3) The proposed management plan will ensure that the products and services provided are of high quality, relevant, and useful to recipients; and

(4) The proposed project will benefit from a diversity of perspectives, including those of eligible children or students, families, educators, TA providers, researchers, and policy makers, among others, in its development and operation.

(5) The proposed project will establish and maintain an advisory committee consisting of representatives from an SEA and an LEA; representatives from community colleges and four-year IHEs; representatives from vocational rehabilitation agencies; eligible children and students, and/or parents or family members of eligible children or students; and representatives of schools or other institutions where AEM are used. The purpose of this advisory committee is to provide the project with input and ongoing advice on the project's goals, objectives, products, and services. The project must submit the proposed membership of the advisory committee to the Office of Special Education Programs (OSEP) for approval within eight weeks after receipt of the award;

(6) The project will communicate and collaborate on an ongoing basis with OSEP-funded projects (see www.osepideasthatwork.org/find-center-or-grant/find-a-center), including NIMAS-related projects. Activities could include jointly developing products, training sessions, and materials; and improving the AEM delivery system to ensure timely and easy access; and

(7) The project will maintain ongoing communication with the OSEP project officer through phone conferences, email communication, and face-to-face meetings, as appropriate.

(e) Address the following application requirements. The applicant must—

(1) Include, in Appendix A, personnel-loading charts and timelines, as applicable, to illustrate the management plan described in the narrative;

(2) Use a conceptual framework (and provide a copy in Appendix A) to develop project plans and activities, describing any underlying concepts, assumptions, expectations, beliefs, or theories, as well as the presumed relationships or linkages among these variables, and any empirical support for this framework;

Note: The following websites provide more information on logic models and conceptual frameworks: www.osepideasthatwork.org/logicModel and www.osepideasthatwork.org/resources-grantees/program-areas/ta-ta/tad-project-logic-model-and-conceptual-framework.

(3) Include, in the budget, attendance at the following:

(i) A one and one-half day kick-off meeting in Washington, DC, or virtually, after receipt of the award, and an annual planning meeting in Washington, DC, or virtually, with the OSEP project officer and other relevant staff during each subsequent year of the project period.

Note: Within 30 days of receipt of the award, a post-award teleconference must be held between the OSEP project officer and the grantee's project director or other authorized representative;

(ii) A two and one-half day project directors' conference in Washington, DC, or virtually, during each year of the project period;

(iii) Two annual two-day trips, or virtually, to attend Department briefings, Department-sponsored conferences, and other meetings, as requested by OSEP; and

(iv) A one-day intensive 3+2 review meeting in Washington, DC, or virtually, during the last half of the second year of the project period;

(4) Include, in the budget, a line item for an annual set-aside of 5 percent of the grant amount to support emerging needs that are consistent with the proposed project's intended outcomes, as those needs are identified in consultation with, and approved by, the OSEP project officer. With approval from the OSEP project officer, the project must reallocate any remaining funds from this annual set-aside no later than the end of the third quarter of each budget period; and

(5) Maintain a high-quality website, with an easy-to-navigate design, that meets or exceeds government or industry-recognized standards for accessibility;

(6) Ensure that annual project progress toward meeting project goals is posted on the project website; and

(7) Include, in Appendix A, an assurance to assist OSEP with the transfer of pertinent resources and products and to maintain the continuity of services to eligible children and students during the transition to this new award period and at the end of this award period, as appropriate.

Fourth and Fifth Years of the Project:

In deciding whether to continue funding the project for the fourth and fifth years, the Secretary will consider the requirements of 34 CFR 75.253(a), including—

(a) The recommendations of a 3+2 review team consisting of experts who have experience and knowledge in providing educational materials in accessible formats for eligible children and students with disabilities. This review will be conducted during a one-day intensive meeting that will be held during the last half of the second year of the project period;

(b) The timeliness with which, and how well, the requirements of the negotiated cooperative agreement have been or are being met by the project; and

(c) The quality, relevance, and usefulness of the project's products and services and the extent to which the project's products and services are aligned with the project's objectives and likely to result in the project achieving its intended outcomes.

Under 34 CFR 75.253, the Secretary may reduce continuation awards or discontinue awards in any year of the project period for excessive carryover balances or a failure to make substantial progress. The Department intends to closely monitor unobligated balances and substantial progress under this program and may reduce or discontinue funding accordingly.

References:

Advisory Commission on Accessible Instructional Materials in Postsecondary Education. (December 6, 2011). Report of the Advisory Commission on Accessible Instructional Materials in Postsecondary Education for Students with Disabilities. Advisory Commission on AIM in Postsecondary Education. http://aem.cast.org/about/publications/2011/postsecondary-advisory-commission-report.html

U.S. Department of Education. 2020. IDEA section 618 data products: Static tables (2019-2020). http://www2.ed.gov/programs/osepidea/618-data/static-tables/index.html#partb-cc.

Waiver of Proposed Rulemaking: Under the Administrative Procedure Act (APA) (5 U.S.C. 553) the Department generally offers interested parties the opportunity to comment on proposed priorities. Section 681(d) of IDEA, however, makes the public comment requirements of the APA inapplicable to the priority in this notice.

Program Authority: 20 U.S.C. 1474 and 1481.

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 79 apply to all applicants except federally recognized Indian Tribes.

Note: The regulations in 34 CFR part 86 apply to IHEs only.

II. Award Information

Type of Award: Cooperative agreement.

Estimated Available Funds: The Administration has requested $29,547,000 for the Educational Technology, Media, and Materials for Individuals with Disabilities program for FY 2022, of which we intend to use an estimated $8,500,000 for this competition. The actual level of funding, if any, depends on final congressional action. However, we are inviting applications to allow enough time to complete the grant process if Congress appropriates funds for this program.

Contingent upon the availability of funds and the quality of applications, we may make additional awards in FY 2023 from the list of unfunded applications from this competition.

Maximum Award: We will not make an award exceeding $8,500,000 for a single budget period of 12 months.

Estimated Number of Awards: 1.

Note: The Department is not bound by any estimates in this notice.

Project Period: Up to 60 months.

III. Eligibility Information

1. Eligible Applicants: SEAs; State lead agencies under Part C of IDEA; LEAs, including public charter schools that are considered LEAs under State law; IHEs; other public agencies; private nonprofit organizations; freely associated States and outlying areas; Indian Tribes or Tribal organizations; and for-profit organizations.

2. a. Cost Sharing or Matching: This competition does not require cost sharing or matching.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: A grantee under this competition may not award subgrants to entities to directly carry out project activities described in its application. Under 34 CFR 75.708(e), a grantee may contract for supplies, equipment, and other services in accordance with 2 CFR part 200.

4. Other General Requirements:

a. Recipients of funding under this competition must make positive efforts to employ and advance in employment qualified individuals with disabilities (see section 606 of IDEA).

b. Applicants for, and recipients of, funding must, with respect to the aspects of their proposed project relating to the absolute priority, involve individuals with disabilities, or parents of individuals with disabilities ages birth through 26, in planning, implementing, and evaluating the project (see section 682(a)(1)(A) of IDEA).

IV. Application and Submission Information

1. Application Submission Instructions: Applicants are required to follow the Common Instructions for Applicants to Department of Education Discretionary Grant Programs, published in the Federal Register on December 27, 2021 (86 FR 73264) and available at www.federalregister.gov/d/2021-27979. Please note that these Common Instructions supersede the version published on February 13, 2019, and, in part, describe the transition from the requirement to register in SAM.gov a Data Universal Numbering System (DUNS) number to the implementation of the Unique Entity Identifier (UEI). More information on the phase-out of DUNS numbers is available at https://www2.ed.gov/about/offices/list/ofo/docs/unique-entity-identifier-transition-fact-sheet.pdf.

2. Intergovernmental Review: This competition is subject to Executive Order 12372 and the regulations in 34 CFR part 79. Information about Intergovernmental Review of Federal Programs under Executive Order 12372 is in the application package for this competition.

3. Funding Restrictions: We reference regulations outlining funding restrictions in the Applicable Regulations section of this notice.

4. Recommended Page Limit: The application narrative is where you, the applicant, address the selection criteria that reviewers use to evaluate your application. We recommend that you (1) limit the application narrative to no more than 70 pages and (2) use the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to the cover sheet; the budget section, including the narrative budget justification; the assurances and certifications; or the abstract (follow the guidance provided in the application package for completing the abstract), the table of contents, the list of priority requirements, the resumes, the reference list, the letters of support, or the appendices. However, the recommended page limit does apply to all of the application narrative, including all text in charts, tables, figures, graphs, and screen shots.

V. Application Review Information

1. Selection Criteria: The selection criteria for this competition are from 34 CFR 75.210 and are listed below:

(a) Quality of project services (30 points).

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the goals, objectives, and outcomes to be achieved by the proposed project are clearly specified and measurable.

(ii) The likely impact of the services to be provided by the proposed project on the intended recipients of those services.

(iii) The extent to which the services to be provided by the proposed project reflect up-to-date knowledge from research and effective practice.

(iv) The extent to which the training or professional development services to be provided by the proposed project are of sufficient quality, intensity, and duration to lead to improvements in practice among the recipients of those services.

(v) The extent to which the technical assistance services to be provided by the proposed project involve the use of efficient strategies, including the use of technology, as appropriate, and the leveraging of non-project resources.

(b) Quality of the project evaluation (30 points).

(1) The Secretary considers the quality of the evaluation to be conducted of the proposed project.

(2) In determining the quality of the evaluation, the Secretary considers the following factors:

(i) The extent to which the methods of evaluation are thorough, feasible, and appropriate to the goals, objectives, and outcomes of the proposed project.

(ii) The extent to which the methods of evaluation provide for examining the effectiveness of project implementation strategies.

(iii) The extent to which the methods of evaluation will provide timely guidance for quality assurance.

(iv) The extent to which the methods of evaluation will provide performance feedback and permit periodic assessment of progress toward achieving intended outcomes.

(v) The extent to which the methods of evaluation will provide valid and reliable performance data on relevant outcomes.

(c) Adequacy of resources and quality of project personnel (20 points).

(1) The Secretary considers the adequacy of resources for the proposed project and the quality of the personnel who will carry out the proposed project.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of the project director or principal investigator.

(ii) The qualifications, including relevant training and experience, of key project personnel.

(iii) The qualifications, including relevant training and experience, of project consultants or subcontractors.

(iv) The qualifications, including relevant training, experience, and independence, of the evaluator.

(v) The adequacy of support, including facilities, equipment, supplies, and other resources, from the applicant organization or the lead applicant organization.

(vi) The relevance and demonstrated commitment of each partner in the proposed project to the implementation and success of the project.

(vii) The extent to which the budget is adequate to support the proposed project.

(viii) The extent to which the costs are reasonable in relation to the objectives, design, and potential significance of the proposed project.

(d) Quality of the management plan (20 points).

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks.

(ii) The extent to which the time commitments of the project director and principal investigator and other key project personnel are appropriate and adequate to meet the objectives of the proposed project.

(iii) The adequacy of mechanisms for ensuring high-quality products and services from the proposed project.

(iv) How the applicant will ensure that a diversity of perspectives are brought to bear in the operation of the proposed project, including those of parents, teachers, the business community, a variety of disciplinary and professional fields, recipients or beneficiaries of services, or others, as appropriate.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.206, before awarding grants under this competition the Department conducts a review of the risks posed by applicants. Under 2 CFR 200.208, the Secretary may impose specific conditions, and under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

6. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115—232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: For the purposes of Department reporting under 34 CFR 75.110, we have established a set of performance measures, including long-term measures, that are designed to yield information on various aspects of the effectiveness and quality of the ETechM2 Program. These measures are:

• Program Performance Measure #1: The percentage of ETechM2 Program products and services judged to be of high quality by an independent review panel of experts qualified to review the substantial content of the products and services.

• Program Performance Measure #2: The percentage of ETechM2 Program products and services judged to be of high relevance to improving outcomes for infants, toddlers, children, and youth with disabilities.

• Program Performance Measure #3: The percentage of ETechM2 Program products and services judged to be useful in improving results for infants, toddlers, children, and youth with disabilities.

• Program Performance Measure #4.1: The Federal cost per unit of accessible educational materials funded by the ETechM2 Program.

• Program Performance Measure #4.2: The Federal cost per unit of accessible educational materials from the National Instructional Materials Access Center funded by the ETechM2 Program.

• Program Performance Measure #4.3: The Federal cost per unit of video description funded by the ETechM2 Program.

The measures apply to projects funded under this competition, and grantees are required to submit data on these measures as directed by OSEP.

Grantees will be required to report information on their project's performance in annual and final performance reports to the Department (34 CFR 75.590 and 75.591).

The Department will also closely monitor the extent to which the products and services provided by the Center meet needs identified by stakeholders and may require the Center to report on such alignment in their quarterly, annual, and final performance reports.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Katherine Neas,
Deputy Assistant Secretary, delegated the authority to perform the functions and duties of the Assistant Secretary for the Office of Special Education and Rehabilitative Services.

[FR Doc. 2022-02688 Filed 2-8-22; 8:45 am]

BILLING CODE 4000-01-P